DEPARTMENT OF ENERGY

Federal Energy Regulatory Commission

Combined Notice of Filings

Take notice that the Commission has received the following Natural Gas Pipeline Rate and Refund Report filings:

Filings Instituting Proceedings

Docket Numbers: RP19-688-000.

Applicants: East Tennessee Natural Gas, LLC.

Description: § 4(d) Rate Filing: ARP 410502 Permanent Release to Summit 410659 to be effective 3/1/2019.

Filed Date: 2/25/19.

Accession Number: 20190225-5038.

Comments Due: 5 p.m. ET 3/11/19.

Docket Numbers: RP19-689-000.

Applicants: SG Resources Mississippi, L.L.C.

Description: § 4(d) Rate Filing: SG Resources Mississippi. L.L.C.—Revisions to FERC Gas Tariff to be effective 3/25/2019.

Filed Date: 2/25/19.

Accession Number: 20190225-5057.

Comments Due: 5 p.m. ET 3/11/19.

Docket Numbers: RP19-690-000.

Applicants: Black Marlin Pipeline LLC.

Description: § 4(d) Rate Filing: 2019 Black Marlin name change to be effective 3/27/2019.

Filed Date: 2/25/19.

Accession Number: 20190225-5103.

Comments Due: 5 p.m. ET 3/11/19.

Docket Numbers: RP19-691-000.

Applicants: Algonquin Gas Transmission, LLC.

Description: § 4(d) Rate Filing: Negotiated Rate—Yankee to Direct Energy 798785 to be effective 2/26/2019.

Filed Date: 2/25/19.

Accession Number: 20190225-5117.

Comments Due: 5 p.m. ET 3/11/19.

Docket Numbers: RP19-692-000.

Applicants: Black Hills Shoshone Pipeline, LLC.

Description: Annual Adjustment of Lost and Unaccounted for Gas Percentage of Black Hills Shoshone Pipeline, LLC under RP19-692.

Filed Date: 2/25/19.

Accession Number: 20190225-5185.

Comments Due: 5 p.m. ET 3/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2019.
Nathaniel J. Davis, Sr.,
Deputy Secretary.

[FR Doc. 2019-03757 Filed 3-1-19; 8:45 am]

BILLING CODE 6717-01-P